NATIONAL SCIENCE FOUNDATION

Agency Information Collection Activities: Systematics Scientists Community Survey

AGENCY: National Science Foundation.

ACTION: Submission for OMB review; comment request.

SUMMARY: The National Science Foundation (NSF) has submitted the following information collection requirement to OMB for review and clearance under the Paperwork Reduction Act of 1995. This is the second notice for public comment; the first was published in the Federal Register, and no comments were received. NSF is forwarding the proposed submission to the Office of Management and Budget (OMB) for clearance simultaneously with the publication of this second notice.

DATES: Written comments and recommendations for the proposed information collection should be sent within 30 days of publication of this notice to www.reginfo.gov/public/do/PRAmain. Find this particular information collection by selecting “Currently under 30-day Review—Open for Public Comments” or by using the search function.

FOR FURTHER INFORMATION CONTACT: Suzanne H. Plimpton, Reports Clearance Officer, National Science Foundation, 2415 Eisenhower Avenue, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

Comments: Comments regarding (a) whether the proposed collection of information is necessary for the proper performance of the functions of the NSF, including whether the information shall have practical utility; (b) the accuracy of the NSF's estimate of the burden of the proposed collection of information; (c) ways to enhance the quality, use, and clarity of the information on respondents; and (d) ways to minimize the burden of the collection of information on those who are to respond, including through the use of appropriate automated, electronic, mechanical, or other technological collection techniques or other forms of information technology should be addressed to the points of contact in the FOR FURTHER INFORMATION CONTACT section. The first request for public comment was published on December 5, 2023, at 88 FR 84364.

Copies of the submission may be obtained by calling 703-292-7556. NSF may not conduct or sponsor a collection of information unless the collection of information displays a currently valid OMB control number, and the agency informs potential persons who are to respond to the collection of information that such persons are not required to respond to the collection of information unless it displays a currently valid OMB control number.

SUPPLEMENTARY INFORMATION:

Title of Collection: Systematics Scientists Community Survey.

OMB Number: 3145-NEW.

Type of Request: Intent to seek approval to establish an information collection.

Abstract: The Systematics and Biodiversity Science Cluster (SBS) of the Division of Environmental Biology (DEB) at the National Science Foundation (NSF) supports research and methods development that advances understanding of the diversity, systematics, distribution and evolutionary history of extant and extinct organisms. SBS has a longstanding commitment to support research and taxonomic capacity building across the breadth of life on earth.

SBS requests the Office of Management and Budget (OMB) approval to initiate a new survey that will capture the current state of systematic research in the U.S. across subdisciplines, taxonomic groups, and scientific training and ranks.

Use of the Information: Individual survey responses will not be identifiable to the respondent. Aggregate results from the survey will be analyzed and summarized for internal SBS use. The data collected and analyzed will be used for program planning, management, and evaluation purposes. Analyzed data in aggregate may be used in a white paper reporting on the state of systematics science in the U.S. These data are needed for effective administration, program monitoring, evaluation, and for strategic planning within SBS.

Expected Respondents: The respondents will be scientists that self-identify as systematists.

Estimate of Burden:

Estimates of Annualized Cost to Respondents for the Hour Burdens: The overall annualized cost to the respondents is estimated to be $6,730. The following table shows the estimated burden and costs to respondents, who are generally biologists at the postsecondary level. This estimated hourly rate is based on a report from the Bureau of Labor Statistics' Occupational Employment and Wages, May 2021).¹ According to this report, the median hourly rate is $33.65.

¹ https://www.bls.gov/oes/current/oes251021.htm.

Collection title | Total number of respondents | Burden hours per respondent | Total hour burden | Average hourly rate | Estimated cost
Survey of Systematists | 800 | .25 | 200 | $33.65 | $6,730
Total | 800 |  | 200 |  | 6,730

Estimated Number of Responses per Report: Survey requests will be sent to members of all North American scientific societies to which systematists belong. The total number of systematists employed in the U.S. is not known but estimated that ca. 800 will respond.

Dated: June 4, 2024.
Suzanne H. Plimpton,
Reports Clearance Officer, National Science Foundation.

[FR Doc. 2024-12558 Filed 6-6-24; 8:45 am]

BILLING CODE 7555-01-P